DEPARTMENT OF COMMERCE

Census Bureau

2007 Economic Census of the Island Areas

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 28, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Lee R. Wentela, U.S. Census Bureau, Room 1183, Building 3, Washington, DC 20233-6400 (301-763-7270 or via the Internet at lee.r.wentela@census.gov).

SUPPLEMENTARY INFORMATION:

I. Abstract

The economic census, conducted under authority of Title 13, United States Code (U.S.C.), is the primary source of facts about the structure and functioning of the United States economy, including Puerto Rico, Guam, the Northern Mariana Islands, the U.S. Virgin Islands, and American Samoa. The economic census, is the primary source of dependable facts about each of the island areas' economies, and features the only recognized source of data at a geographic level equivalent to U.S. counties. Economic census statistics for the island areas serve to benchmark estimates of local net income and gross product, and provide essential information for government (Federal and local), business, and the general public. Economic data are the Census Bureau's primary program commitment during nondecennial census years. The 2007 Economic Census of the Island Areas will cover the following sectors (as defined by the North American Industry Classification System (NAICS)): Mining, Utilities, Construction, Manufacturing; Wholesale and Retail Trades, Transportation and Warehousing, Information; Finance and Insurance; Real Estate and Rental and Leasing; Professional, Scientific, and Technical Services; Management of Companies and Enterprises; Administrative and Support, Waste Management and Remediation Services, Educational Services; Health Care and Social Assistance; Arts, Entertainment, and Recreation; Accommodation and Food Services, and Other Services (except Public Administration). This scope is equivalent to that of the stateside economic census. The information collected will produce basic statistics by kind of business on the number of establishments, sales/shipments/receipts/revenue, payroll, and employment. It will also yield a variety of industry-specific statistics, including sales/receipts by commodity/ merchandise/receipt line, sales/shipments by class of customer, inventories, and number of hotel rooms. Primary strategies for reducing burden in Census Bureau economic data collections are to increase reporting through standardized questionnaires and broader electronic data collection methods.

II. Method of Collection

The 2007 Economic Census of the Island Areas will be conducted using mailout/mailback procedures. Establishments will be selected from the Census Bureau's Business Register. An establishment will be included in the 2007 Economic Census of Island Areas if: (a) It is engaged in any of the sectors within the scope of the census listed above; (b) it is an active operating establishment with payroll; and (c) it is located in Puerto Rico, Guam, the Northern Mariana Islands, the U.S. Virgin Islands, or American Samoa. Generally, non-employer establishments are excluded from the Economic Census of the Island Areas. However, non-employer establishments are included in the data collection in American Samoa due to the unique structure of the economy for this area as well as the lack of economic statistics. The data for non-employer establishments in American Samoa will be collected through an enumeration conducted by employees of the government of American Samoa. This enumeration will follow guidelines provided by the Census Bureau, which will include the requirement that all staff are sworn to uphold all confidentiality requirements of Title 13, U.S.C.

III. Data

OMB Number: Not available.

Form Number: The forms used to collect information in Puerto Rico are tailored to specific industries or groups of industries. Puerto Rico forms are available in English as well as Spanish. Only one form, covering all economic activity within the scope of the census, is used for each of the remaining areas. The forms are too numerous to list individually in this notice. The contact named above can provide interested parties with complete information on the forms to be included in this information collection.

Type of Review: Regular review.

Affected Public: Local governments, businesses, or other for profit or nonprofit institutions or organizations.

Estimated Number of Respondents: Puerto Rico 50,000; Guam 3,250; Northern Mariana Islands 1,500; U.S. Virgin Islands 3,000; American Samoa 1,250 (includes non-employers); Total 59,000.

Estimated Time per Response: Puerto Rico 1 hour; Guam 30 minutes; Northern Mariana Islands 30 minutes; U.S. Virgin Islands 30 minutes; American Samoa 30 minutes.

Estimated Total Annual Burden Hours: 54,500.

Estimated Total Annual Cost: $1,344,515.

Respondent's Obligation: Mandatory.

Legal Authority: Title 13, U.S.C. 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 22, 2006.
Madeleine Clayton,
Management Analyst, Office of the Chief Information Officer.

[FR Doc. E6-10145 Filed 6-27-06; 8:45 am]

BILLING CODE 3510-07-P